NUCLEAR REGULATORY COMMISSION

[Docket No. 50-440; NRC-2023-0136]

Vistra Operations Company, LLC.; Perry Nuclear Power Plant, Unit 1; Final Environmental Impact Statement

AGENCY: Nuclear Regulatory Commission.

ACTION: Notice; issuance.

SUMMARY: The U.S. Nuclear Regulatory Commission (NRC) has published a final Environmental Impact Statement (EIS), issued as NUREG-1437, Supplement 61, Second Renewal, “Environmental Impact Statement for License Renewal of Nuclear Plants Regarding Subsequent License Renewal for Perry Nuclear Power Plant, Unit 1, Final Report.” This EIS evaluates the environmental impacts of license renewal of Facility Operating License No. NPF-58 for an additional 20 years of operation for Perry Nuclear Power Plant (Perry Plant), Unit 1. Perry Plant is located approximately 35 miles northeast of Cleveland, OH. Alternatives to the proposed action of subsequent license renewal for Perry Plant include the no-action alternative and reasonable replacement power alternatives.

DATES: NUREG-1437, Supplement 61, Second Renewal, is available as of April 30, 2025.

ADDRESSES: Please refer to Docket ID NRC-2023-0136 when contacting the NRC about the availability of information regarding this document. You may obtain publicly available information related to this document using any of the following methods:

• Federal Rulemaking Website: Go to https://www.regulations.gov and search for Docket ID NRC-2023-0136. Address questions about Docket IDs in Regulations.gov to Bridget Curran; telephone: 301-415-1003; email: Bridget.Curran@nrc.gov. For technical questions contact the individual listed in the FOR FURTHER INFORMATION CONTACT section of this document.

• NRC's Agencywide Documents Access and Management System (ADAMS): You may access publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. NUREG-1437, Supplement 61, Second Renewal, is available in ADAMS under Accession No. ML25113A032.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

• Public Library: A copy of the final EIS, NUREG-1437, Supplement 61, Second Renewal, regarding the proposed subsequent renewal of Renewed Facility Operating License No. NPF-58 for an additional 20 years of operation for Perry Plant, will be available for public review at the Perry Public Library, 3753 Main St., Perry, OH 44081.

FOR FURTHER INFORMATION CONTACT: Lance Rakovan, Office of Nuclear Material Safety and Safeguards, U.S. Nuclear Regulatory Commission, Washington, DC 20555-0001; telephone: 301-415-2589; email: Lance.Rakovan@nrc.gov.

SUPPLEMENTARY INFORMATION:

I. Background

In accordance with section 51.118 of title 10 of the Code of Federal Regulations (10 CFR), “Final environmental impact statement—notice of availability,” the NRC is making available for public inspection NUREG-1437, Supplement 61, Second Renewal, regarding the subsequent license renewal of Vistra Operations Company, LLC.; (Vistra), renewed Facility Operating License No. NPF-58 for an additional 20 years of operation for Perry Plant. A notice of availability of the draft EIS (NUREG-1437, Supplement 61, Second Renewal, Draft for Comment) was published in the Federal Register on September 6, 2024 (89 FR 72901). The U.S. Environmental Protection Agency (EPA) issued its Notice of Availability on September 6, 2024 (89 FR 72841). The public comment period on the draft EIS ended on October 21, 2024, and the comments received on the draft EIS are addressed in the final EIS (NUREG-1437, Supplement 61, Second Renewal, Final Report).

II. Discussion

The draft EIS (NUREG-1437, Supplement 61, Second Renewal, Draft for Comment) was issued for public comment on September 6, 2024. The final EIS (NUREG-1437, Supplement 61, Second Renewal, Final Report) addresses the comments received on the draft EIS. As discussed in Chapter 4 of the final EIS, the NRC staff has determined that the adverse environmental impacts of license renewal for Perry Plant (i.e., the continued operation of Perry Plant for a period of 20 years beyond the expiration date of the initial license) are not so great that preserving the option of license renewal for energy-planning decision-makers would be unreasonable. This recommendation is based on: (1) information provided in the environmental report, as supplemented, and other documents submitted by Vistra; (2) consultation with Federal, State, Tribal, and local governmental agencies; (3) the NRC staff's independent environmental review; and (4) consideration of public comments received during the scoping process and on the draft EIS (NUREG-1437, Supplement 61, Second Renewal, Draft for Comment).

Dated: May 6, 2025.
For the Nuclear Regulatory Commission.
John Moses, Deputy Director,
Division of Rulemaking, Environmental, and Financial Support, Office of Nuclear Material Safety and Safeguards.

[FR Doc. 2025-08192 Filed 5-8-25; 8:45 am]

BILLING CODE 7590-01-P